FEDERAL ELECTION COMMISSION

[Notice 2010—06]

Filing Dates for the Pennsylvania Special Election in the 12th Congressional District

AGENCY: Federal Election Commission.

ACTION: Notice of filing dates for special election.

SUMMARY: Pennsylvania has scheduled a Special General Election on May 18, 2010, to fill the U.S. House seat in the 12th Congressional District held by the late Representative John P. Murtha.

Committees required to file reports in connection with the Special General Election on May 18, 2010, shall file a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION: Principal Campaign Committees.

All principal campaign committees of candidates who participate in the Pennsylvania Special General Election shall file a 12-day Pre-General Report on May 6, 2010, and a 30-day Post-General Report on June 17, 2010. (See chart below for the closing date for each report).

Note that these reports are in addition to the campaign committee's quarterly filings in April and July. (See chart below for the closing date for each report).

Unauthorized Committees (PACs and Party Committees)

Political committees filing on a quarterly basis in 2010 are subject to special election reporting if they make previously undisclosed contributions or expenditures in connection with the Pennsylvania Special General Election by the close of books for the applicable report(s). (See chart below for the closing date for each report).

Committees filing monthly that make contributions or expenditures in connection with the Pennsylvania Special General Election will continue to file according to the monthly reporting schedule.

Additional disclosure information in connection with the Pennsylvania Special Election may be found on the FEC Web site at http://www.fec.gov/info/report_dates_2010.shtml.

Disclosure of Lobbyist Bundling Activity

Campaign committees, party committees and Leadership PACs that are otherwise required to file reports in connection with the special elections must simultaneously file FEC Form 3L if they receive two or more bundled contributions from lobbyists/registrants or lobbyist/registrant PACs that aggregate in excess of $16,000 during the special election reporting periods (see charts below for closing date of each period). 11 CFR 104.22(a)(5)(v).

Calendar of Reporting Dates for Pennsylvania Special Election Committees Involved in the Special General (05/18/10) Must File:
Report | Close of books ¹ | Reg./cert.& overnight mailing deadline | Filing deadline
Pre-General | 04/28/10 | 05/03/10 | 05/06/10
Pose-General | 06/07/10 | 06/17/10 | 06/17/10
July Quarterly | 06/30/10 | 07/15/10 | 07/15/10
¹ The reporting period always begins the day after the closing date of the last report filed. If the committee is new and has not previously filed a report, the first report must cover all activity that occurred before the committee registered as a political committee with the Commission up through the close of books for the first report due.

Dated: March 2, 2010.
On behalf of the Commission,
Matthew S. Petersen,
Chairman, Federal Election Commission.

[FR Doc. 2010-4774 Filed 3-5-10; 8:45 am]

BILLING CODE 6715-01-P